NUCLEAR REGULATORY COMMISSION

[NRC-2016-0001]

Sunshine Act Meeting Notice

DATE: May 2, 2016.

PLACE: Commissioners' Conference Room, 11555 Rockville Pike, Rockville, Maryland.

STATUS: Public.

Week of May 2, 2016

Wednesday, May 4, 2016

9:25 a.m. Affirmation Session (Public Meeting) (Tentative)

Entergy Nuclear Operations, Inc. (Indian Point Nuclear Generating Units 2 and 3)—State of New York Petitions for Review of LBP-13-13 and Associated Board Decision on Contention NYS-12C (Tentative)

* * * * *

Additional Information

By a vote of 4-0 on April 28, 2016, the Commission determined pursuant to U.S.C. 552b(e) and 9.107(a) of the Commission's rules that both items in the above referenced Affirmation Session be held with less than one week notice to the public. The meeting is scheduled on May 4, 2016.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: April 28, 2016.
Denise L. McGovern,
Policy Coordinator, Office of the Secretary.

[FR Doc. 2016-10374 Filed 4-29-16; 11:15 am]

BILLING CODE 7590-01-P